DEPARTMENT OF ENERGY

Federal Energy Regulatory Commission

[Docket Nos. CP16-3-000 and CP16-3-001]

Texas Eastern Transmission, LP; Notice of Schedule for Environmental Review of the Access South, Adair Southwest, and Lebanon Extension Projects

On October 8, 2015, Texas Eastern Transmission, LP (Texas Eastern) filed an application requesting a Certificate of Public Convenience and Necessity pursuant to Section 7(c) of the Natural Gas Act to construct, operate, and maintain pipeline loops, install additional compression, and allow for reverse flow capabilities. The proposed projects, known as Access South, Adair Southwest, and the Lebanon Extension Projects would enable Texas Eastern to transport up to an additional 622,000 dekatherms per day of natural gas on its mainline system from Uniontown, Pennsylvania to points in Ohio, Kentucky, and Mississippi.

On October 22, 2015, the Federal Energy Regulatory Commission (Commission or FERC) issued its Notice of Application for the projects. Among other things, the Notice of Application alerted agencies issuing federal authorizations of the requirement to complete all necessary reviews and to reach a final decision on a request for a federal authorization within 90 days of the date of issuance of the Commission staff's Environmental Assessment (EA) for the projects. This instant notice identifies the FERC staff's planned schedule for the completion of the EA for the projects.

Schedule for Environmental Review

Issuance of EA—August 8, 2016

90-day Federal Authorization Decision Deadline—November 6, 2016

If a schedule change becomes necessary, additional notice will be provided so that the relevant agencies are kept informed of the projects' progress.

Project Description

The projects would include (1) construction and maintenance of approximately 15.8 miles of 36-inch-diameter pipeline at three locations in Meigs and Monroe Counties, Ohio and 0.5 mile of 16-inch-diameter replacement pipeline within its existing right-of-way in Attala County, Mississippi; (2) installation of a new 16,875 horsepower compressor unit at an existing compressor station in Tompkinsville, Kentucky; and (3) modification of 12 existing compressor stations to allow for reverse flow capabilities in Pennsylvania, Ohio, Kentucky, Tennessee, Alabama, and Mississippi.

Background

On August 11, 2015, the Commission issued a Notice of Intent to Prepare an Environmental Assessment for the Planned Access South, Adair Southwest, and the Lebanon Extension Projects and Request for Comments on Environmental Issues (NOI). The NOI was issued during the pre-filing review of the projects in Docket No. PF15-17-000 and was sent to affected landowners; federal, state, and local government agencies; elected officials; environmental and public interest groups; Native American tribes; other interested parties; and local libraries and newspapers.

In response to the NOI, the Commission received environmental comments from the Ohio Department of Natural Resources, the U.S. Fish and Wildlife Service, the U.S. Army Corps of Engineers, a landowner, and combined comments from the Allegheny Defense Project, Buckeye Forest Council, Center for Biological Diversity, Freshwater Accountability Project, Heartwood, Kentucky Heartwood, and the Ohio Valley Environmental Coalition. The primary issues raised by the commentors included location of pipeline on an affected landowner's property; federally-listed threatened and endangered species; state-listed endangered species; migratory birds; permitting requirements; minimization and avoidance of impacts on streams and wetlands; direct, indirect and cumulative project impacts; connected actions; forest fragmentation; and noise.

On May 17, 2016, the Commission issued a Supplemental Notice of Intent to Prepare an Environmental Assessment for the Proposed Access South, Adair Southwest, and the Lebanon Extension Projects and Request for Comments on Environmental Issues (Supplemental NOI). The Supplemental NOI was sent to landowners within one half mile of the compressor stations who had not been included in Texas Eastern's original landowner list. In response to the Supplemental NOI, we received one comment from the U.S. Fish and Wildlife Service stating that it had no comments on the projects.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the project is available from the Commission's Office of External Affairs at (866) 208-FERC or on the FERC Web site (www.ferc.gov). Using the “eLibrary” link, select “General Search” from the eLibrary menu, enter the selected date range and “Docket Number” excluding the last three digits (i.e., CP16-3), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: July 12, 2016.
Kimberly D. Bose,
Secretary.

[FR Doc. 2016-16900 Filed 7-15-16; 8:45 am]

BILLING CODE 6717-01-P